DEPARTMENT OF DEFENSE

Department of the Army, Corps of Engineers

Intent To Prepare a Draft Environmental Impact Statement for the Upper Baritaria Basin, LA Study

AGENCY: Department of the Army, U.S. Army Corps of Engineers, DoD.

ACTION: Notice of intent.

SUMMARY: Pursuant to the National Environmental Policy Act (NEPA), the U.S. Army Corps of Engineers, New Orleans District (USACE) intends to prepare a Draft Integrated Feasibility Report and Environmental Impact Statement (DIFR-EIS) to assess the potential social, economic, and environmental impacts associated with the proposed project titled, Upper Barataria Basin Coastal Feasibility Study. The DIFR-EIS will document the existing condition of environmental resources in and around areas considered for construction, and potential impacts on those resources as a result of implementing the alternatives.

DATES: A Scoping Meeting Notice announcing the locations, dates and times for scoping meetings is anticipated to be posted on the project website, https://www.mvn.usace.army.mil/About/Projects/BBA-2018/studies/ and published in the local newspapers no later than 15 days prior to the meeting dates.

ADDRESSES: Mr. Scott Wandell, Room 335, CEMVN-PMR-C, 7400 Leake Avenue, New Orleans, LA 70118. UpperBaratariaFS@usace.army.mil.

FOR FURTHER INFORMATION CONTACT: If you have any questions or comments about the proposed action or would like to be added to the project mailing list please call Mr. Scott Wandell at (504) 862-1798. For additional information, please visit the following https://www.mvn.usace.army.mil/About/Projects/BBA-2018/studies/.

SUPPLEMENTARY INFORMATION: The lead agency for this proposed action is the USACE. The Louisiana Coastal Protection and Restoration Authority Board is the non-Federal sponsor.

1. Authority. The Resolution dated May 6, 1998 of the Committee on Transportation and Infrastructure of the U.S. House of Representatives authorizes a study that will investigate alternatives that may include structural and non-structural measures to address flood risk from tidal surges, coastal storm surges, and heavy rainfall in the area between Bayou Lafourche and the Mississippi River System, from Donaldsonville to the Gulf of Mexico. Notwithstanding Section 105(a) of the Water Resources Development Act of 1986 (33 U.S.C. 2215(a)), which specifies the cost-sharing requirements generally applicable to feasibility studies, Title IV, Division B of the Bipartisan Budget Act of 2018, Public Law 115-123, enacted February 9, 2018 (“BBA 2018”), authorizes the Government to conduct the Study at full Federal expense to the extent that appropriations provided under the Investigations heading of the BBA 2018 are available and used for such purpose. The study phase is 100% federally funded.

2. Background. The study area encompasses the Louisiana coastal parishes of St. Charles, Lafourche, Assumption, St. James, St. John the Baptist, and Ascension Parish. A previous feasibility study was begun for the entire basin, but never completed due to the benefit cost ratio. While the previous Donaldsonville to the Gulf Hurricane Protection Feasibility Study looked at the entire Barataria basin, this study differs from that by focusing solely on the upper basin, while drawing on information from that previous study to inform this feasibility study. The study area has experienced numerous tropical storm events and is vulnerable to loss of life, wildlife, damage to property and infrastructure, and repeated mandatory evacuation costs. The feasibility study will evaluate the proposed alternatives resulting in risk of storm damage reduction to industries and businesses critical to the Nation's economy and protect the health and safety of Louisiana coastal communities in the Upper Barataria Basin.

The study area needs increased resiliency to flood events for the affected communities. In addition, the study area's topography, low elevation, and proximity to the Gulf of Mexico are all contributing factors causing flooding and erosion of wetland systems within the upper basin. Without additional storm damage reduction measures, the people, economy, environment, and cultural heritage of coastal areas in Upper Barataria Basin are at risk from reoccurring damages caused by flooding.

The scoping, public involvement, and interagency coordination processes will help identify and define the range of potential significant issues that will be considered. Important resources and issues evaluated in EIS could include, but are not limited to, the direct, indirect, and cumulative effects on socioeconomics, navigation, wetlands, uplands, aquatic and biological resources, prime and unique farmlands, essential fish habitat, waterfowl, wildlife resources, geology and soils agricultural land and prime and unique farmland; hydrology and hydraulics, threatened and endangered species and their critical habitat, wildlife resources, threatened/endangered species and other protected species of concern, cultural resources, recreation, aesthetics and visual resources, hazardous, toxic and radioactive waste, environmental justice, soils, air quality, and water quality. USACE will also consider issues identified and comments made throughout scoping, public involvement, and interagency coordination.

3. Alternatives: The USACE will evaluate a range of alternatives for the proposed action including structural and nonstructural measures. For the reasonable and practicable alternatives, the USACE will fully evaluate them, including the no action alternative. Alternatives may result in avoidance and minimization, and mitigation measures of impacts to reduce or offset any impacts.

4. Public Involvement: Public involvement, an essential part of the NEPA process, is integral to assessing the environmental consequences of the proposed action and improving the quality of the environmental decision making. The public includes affected and interested Federal, state, and local agencies, Indian tribes, concerned citizens, stakeholders, and other interested parties. Public participation in the NEPA process will be strongly encouraged, both formally and informally, to enhance the probability of a more technically accurate, economically feasible, and socially acceptable EIS. Public involvement will include, but is not limited to: Information dissemination; identification of problems, needs and opportunities; idea generation; public education; problem solving; providing feedback on proposals; evaluation of alternatives; conflict resolution; public and scoping notices and meetings; public, stakeholder and advisory groups consultation and meetings; and making the EIS and supporting information readily available in conveniently located places, such as libraries and on the world wide web.

5. Scoping: Scoping, an early and open process for identifying the scope of significant issues related to the proposed action to be addressed in the EIS, will be used to: (a) Identify the affected public and agency concerns; (b) facilitate an efficient EIS preparation process; (c) define the issues and alternatives that will be examined in detail in the EIS; and (d) save time in the overall process by helping to ensure that the draft EIS adequately addresses relevant issues. A Scoping Meeting Notice announcing the locations, dates and times for scoping meetings is anticipated to be posted on the project website, https://www.mvn.usace.army.mil/About/Projects/BBA-2018/studies/ and published in the local newspapers no later than 15 days prior to the meeting dates.

6. Coordination: The USACE will serve as the lead Federal agency in the preparation of the EIS. Other federal and/or state agencies may participate as cooperating and/or commenting agencies throughout the EIS process.

In accordance with Executive Order, 1307, referred to as One Federal Decision (OFD), the USACE and other agencies with environmental review, authorization, or consultation responsibilities for major infrastructure projects should develop a single EIS for such projects, sign a single Record of Decision (ROD) and issue all necessary authorizations within 90 days thereafter, subject to limited exceptions. An essential element of the OFD framework is the development of a schedule, referred to the “Permitting Timetable,” including key milestones critical to completion of the environmental review and issuance of a ROD. Cooperating agencies required by law to develop schedules for environmental review or authorization processes should transmit a summary of such schedules to the lead agency for integration into the Permitting Timetable.

To ensure timely completion of the environmental review and issuance of necessary authorizations, OMB and CEQ recommend the Permitting Timetable for major infrastructure projects provide for environmental review according to the following schedule:

(1) Formal scoping and preparation of a Draft EIS (DEIS) within 14 months, beginning on the date of publication of the NOI to publish an EIS and ending on the date of the Notice of Availability of the DEIS;

(2) Completion of the formal public comment period and development of the Final EIS (FEIS) within eight months of the date of the Notice of Availability of the DEIS; and

(3) Publication of the final ROD within two months of the publication of the Notice of Availability of the FEIS.

While the actual schedule for any given project may vary based upon the circumstances of the project and applicable law, agencies should endeavor to meet the two-year goal established in E.O. 13807.

The U.S. Fish and Wildlife Service (Service) will assist in documenting existing conditions and assessing effects of project alternatives through the Fish and Wildlife Start Coordination Act consultation procedures. Other environmental review and consultation requirements for the proposed project include the need for Louisiana Department of Environmental Quality Clean Water Act Section 401 water quality. In addition, because the proposed project may affect federally listed species, the USACE will consult with the Service and the National Marine Fisheries Service (NMFS) in accordance with Endangered Species Act, Section 7. The NMFS will be consulted regarding the effects of this proposed project on Essential Fish Habitat per the Magnuson-Stevens Act. The USACE will also be consulting with the State Historic Preservation Officer under Section 106 of the National Historic Preservation Act concerning properties listed, or potentially eligible for listing. The USACE will also be coordinating with the Louisiana Department of Natural Resources for Coastal Zone Management Consistency per the Coastal Zone Management Act.

7. Availability: The Draft EIS (DEIS) is expected to be available for public comment and review no sooner than December 2019. At that time, a 45-day public review period will be provided for individuals and agencies to review and comment on the DEIS. All interested parties are encouraged to respond to this notice and provide a current address if they wish to be notified of the DEIS circulation.

Brenda S. Bowen,
Army Federal Register Liaison Officer.

[FR Doc. 2019-06359 Filed 4-1-19; 8:45 am]

BILLING CODE 3720-58-P